CONSUMER PRODUCT SAFETY COMMISSION

16 CFR Parts 1112 and 1250

[CPSC Docket No. CPSC-2024-0039]

Mandatory Toy Safety Standards: Requirements for Neck Floats; Correction

AGENCY: Consumer Product Safety Commission.

ACTION: Final rule; correction.

SUMMARY: This document corrects the preamble to a final rule published in the Federal Register on December 15, 2025, regarding requirements for neck floats under CPSC's mandatory toy safety standard. This correction addresses errors and revises text to provide clear instructions to the public to access voluntary standards that are incorporated by reference.

DATES: Effective January 16, 2026.

FOR FURTHER INFORMATION CONTACT:

Carol Afflerbach, Compliance Officer, Office of Compliance, Consumer Product Safety Commission, 4330 East West Highway, Bethesda, MD 20814-4408, telephone: 301-743-8595; email: cafflerbach@cpsc.gov.

Zachary R. Goldstein, Project Manager, Division of Mechanical Engineering, Directorate for Laboratory Sciences, Consumer Product Safety Commission, 5 Research Place, Rockville, MD 20850; telephone: 301-987-2472; email: zgoldstein@cpsc.gov.

SUPPLEMENTARY INFORMATION:

Correction

In final rule FR Doc. 2025-22827, beginning on page 58096 in the issue of December 15, 2025, make the following corrections in the SUPPLEMENTARY INFORMATION section. On page 58129 in the second column:

1. Remove the following text:

“Before the effective date of this rule, you can view a copy of the standards at:

• https://www.surveymonkey.com/r/DQVJYMK for ANSI/CAN/UL 12402-9:2022,

• https://codes.iccsafe.org/content/ANSIAPSPICC162017/title-page for ANSI/APSP/ICC-16 2017,

• https://www.surveymonkey.com/r/DQVJYMK for ANSI Z535.4-2023,

• https://www.astm.org/products-services/reading-room.html for ASTM F833-21, and

• https://www.astm.org/products-services/reading-room.html for ASTM F1967-19.

Once the rule becomes effective.”

2. Remove the link “https://asc.ansi.org/User/Login.aspx#bfor” and add in its place “https://www.ulstandards.com/IBR/logon.aspx.”

3. Revise “https://codes.iccsafe.org/content/ANSIAPSPICC162017/title-pageforANSI/APSP/ICC-16” to read “https://codes.iccsafe.org/content/ANSIAPSPICC162017/title-page for ANSI/APSP/ICC-16 2017.”

Alberta E. Mills,
Secretary, Consumer Product Safety Commission.

[FR Doc. 2026-00895 Filed 1-15-26; 8:45 am]

BILLING CODE 6355-01-P